DEPARTMENT OF THE TREASURY

Bureau of Alcohol, Tobacco and Firearms

[Notice No. 908]

Availability of ATF Publication 5400.7 (Federal Explosives Law and Regulations—2000)

AGENCY: Bureau of Alcohol, Tobacco and Firearms (ATF), Department of the Treasury.

ACTION: General notice.

SUMMARY: The Bureau of Alcohol, Tobacco and Firearms (ATF) is issuing this notice: (1) To announce the release of ATF Publication 5400.7 (09/00), “Federal Explosives Law and Regulations—2000” and (2) to make certain technical corrections to that publication. The purpose of this publication is to serve as a guide to Federal explosives laws, regulations, and related information.

ADDRESSES: ATF P 5400.7 (09/00), “Federal Explosives Law and Regulations—2000” is available at no cost upon request from the ATF Distribution Center, P.O. Box 5950, Springfield, Virginia 22150-5950. The publication may also be viewed at ATF's web site at: http://www.atf.treas.gov.

FOR FURTHER INFORMATION CONTACT: Bill O'Brien, Public Safety Branch, Bureau of Alcohol, Tobacco and Firearms, 680 Techworld South Building, Washington, DC 20226 (202-927-7930).

SUPPLEMENTARY INFORMATION:

Background

The Bureau of Alcohol, Tobacco and Firearms (ATF) is pleased to announce the release of ATF Publication 5400.7 (09/00), “Federal Explosives Law and Regulations—2000.” The purpose of this publication is to serve as a guide to Federal explosives law, regulations, and related information. Several changes have been made to explosives laws and regulations since the last publication.

In examining the completed publication, we observed two errors in the regulations section which need to be corrected, as follows:

1. In 27 CFR 55.218 (Table of distances for storage of explosive materials), footnote 3 at the end of the table, “11/2 lbs.” should be changed to read “1½ lbs.”; and

2. In 27 CFR 55.223 (Table of distances between fireworks process buildings and other specified areas), the title heading of the table was omitted and should be added to read:

Distance From Passenger Railways, Public Highways, Fireworks Plant Buildings Used to Store Consumer Fireworks and Articles Pyrotechnic, Magazines and Fireworks Shipping Buildings, and Inhabited Buildings.³ ⁴ ⁵

In addition to the above, we wish to point out that the correct address of the ATF Out-of-Business Records Center is: 2029 Stonewall Jackson Drive, Spring Mills Office Park, Falling Waters, West Virginia 25419. The regulations at 27 CFR 55.128 (Discontinuance of business) will be amended to reflect this change in a forthcoming Treasury decision.

Approved: November 13, 2000.
Bradley A. Buckles,
Director.

[FR Doc. 00-29615 Filed 11-17-00; 8:45 am]

BILLING CODE 4810-31-P